DEPARTMENT OF HOMELAND SECURITY

[Docket No. DHS-2008-0119]

Homeland Security Information Network Advisory Committee

AGENCY: Department of Homeland Security.

ACTION: Committee Management; Notice of Federal Advisory Committee Teleconference Meeting.

SUMMARY: The Homeland Security Information Network Advisory Committee will hold a conference call on December 3, 2008, to discuss implementation efforts associated with the Next Generation of the Homeland Security Information Network.

DATES: The teleconference call will take place on Wednesday, 3 December, 2008, at 2-3 EST.

ADDRESSES: Members of the public may monitor the call by calling 1-866-222-9044, to be followed by this PIN 78982#. Members of the public are welcome to monitor the meeting however, the number of teleconference lines is limited and available on a first-come, first-served basis. Questions or comments must be identified by DHS-2008-0119 and may be submitted by one of the following methods:

• Federal eRulemaking Portal: http://www.regulations.gov. Follow the instructions for submitting questions or comments.

• E-mail: Elliott.langer@dhs.gov. Include the docket number, DHS-2008-0119, in the subject line of the message.

• Fax: 202-282-8191

• Mail: Elliott Langer, Department of Homeland Security, 245 Murray Lane, SW., Building 410, Washington, DC 20528.

Instructions: All submissions received must include the words “Department of Homeland Security” and the docket number for this action. Comments received will be posted without alteration at www.regulations.gov, including any personal information provided.

Docket: For access to the docket to read background documents or comments received by the Homeland Security Information Network Advisory Committee, go to http://www.regulations.gov.

FOR FURTHER INFORMATION CONTACT: Elliott Langer, 245 Murray Lane, SW., Bldg 410, Washington, DC 20528, Elliott.langer@dhs.gov, 202-282-8978, fax 202-282-8191.

SUPPLEMENTARY INFORMATION: Notice of this meeting is given under the Federal Advisory Committee Act, 5 U.S.C. App. (Pub. L. 92-463). The Homeland Security Information Network Advisory Committee will have a series of conference calls to discuss implementation efforts associated with the Next Generation of the Homeland Security Information Network. The Homeland Security Information Network Advisory Committee provides advice and recommendations to the Secretary through the Director, Operations Coordination and Planning on matters relating to gathering and incorporating user requirements into the Homeland Security Information Network.

The committee will discuss the above issues from approximately 2-3 p.m., EST. The chairperson of the Homeland Security Information Network Advisory Committee shall conduct the teleconference in a way that will, in his judgment, facilitate the orderly conduct of business. Please note that the teleconference may end early if all business is completed.

Information on Services for Individuals With Disabilities

For information on facilities or services for individuals with disabilities or to request special assistance at the meeting, contact Elliott Langer as soon as possible.

November 13, 2008.
Roger T. Rufe, Jr.,
Director, Operations Coordination and Planning.

[FR Doc. E8-27488 Filed 11-18-08; 8:45 am]

BILLING CODE 4410-10-P